DEPARTMENT OF ENERGY

Federal Energy Regulatory Commission

[Docket No. RP00-512-000]

Algonquin LNG, Inc.; Notice of Proposed Changes in FERC Gas Tariff

September 6, 2000.

Take notice that on August 31, 2000, Algonquin LNG, Inc. (ALNG) tendered for filing as part of its FERC Gas Tariff, First Revised Volume No. 1, the following revised tariff sheets to become effective as indicated:

To Be Effective on March 27, 2000

Third Revised Sheet No. 55

Fourth Revised Sheet No. 557A

Second Revised Sheet No. 62

Second Revised Sheet No. 64

Fourth Revised Sheet No. 64A

Fifth Revised Sheet No. 65

Fourth Revised Sheet No. 66

To Be Effective on September 1, 2000

Fourth Revised Sheet No. 51

ALNG states that the purpose of this filing is to comply with the requirements of Order No. 637 regarding the waiver of the rate ceiling for short-term capacity release transactions and the prospective limitations on the availability of the Right-of-First-Refusal.

ALNG states that copies of the filing were mailed to all affected customers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-23310 Filed 9-11-00; 8:45 am]

BILLING CODE 6717-01-M